SMALL BUSINESS ADMINISTRATION

[License No. 02/02-0688]

Willow Tree Credit Partners SBIC, L.P.; Notice Seeking Exemption Under Section 312 of the Small Business Investment Act, Conflicts of Interest

Notice is hereby given that Willow Tree Credit Partners SBIC, L.P., 640 Fifth Avenue, New York, NY 10019, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Willow Tree Credit Partners SBIC, L.P. proposes to provide incremental term loan financing to United Veterinary Care Blocker, Inc., 601 Heritage Drive, Jupiter, FL, (“UVCB”).

The financing is brought within the purview of § 107.730(a) and (d) of the Regulations because Willow Tree Fund I, L.P. and WT Fund I (Offshore) Intermediate, L.P., Associates of Willow Tree Credit Partners SBIC, L.P., own more than ten percent of UVCB, and therefore this transaction is considered a financing of an Associate requiring prior SBA approval.

Notice is hereby given that any interested person may submit written comments on the transaction, within fifteen days of the date of this publication, to the Associate Administrator for Investment, U.S. Small Business Administration, 409 Third Street SW, Washington, DC 20416.

Christopher L. Weaver,
Acting Associate Administrator, Office of Investment and Innovation.

[FR Doc. 2020-14290 Filed 7-1-20; 8:45 am]

BILLING CODE P